DEPARTMENT OF DEFENSE

GENERAL SERVICES ADMINISTRATION

NATIONAL AERONAUTICS AND SPACE ADMINISTRATION

[OMB Control No. 9000-0066; Docket No. 2018-0003; Sequence No. 21]

Information Collection; Labor-related Requirements

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning labor-related requirements.

DATES: Submit comments on or before December 24, 2018.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0066, Labor-related Requirements.

Instructions: All items submitted must cite Information Collection 9000-0066, Labor-related Requirements. Comments received in response to this docket generally will be made available for public inspection and posted without change, including any personal and/or business confidential information provided, at http://www.regulations.gov.

To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Ms. Zenaida Delgado, Procurement Analyst, at telephone 202-969-7207, or email zenaida.delgado@gsa.gov.

SUPPLEMENTARY INFORMATION:

A. Overview of Information Collection

Description of the Information Collection

1. Type of Information Collection: Revision/Renewal of a currently approved collection.

2. Title of the Collection—Labor-related Requirements.

3. Agency form number, if any:—SF 1413, SF 1444.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

This information collection requirement, OMB Control No. 9000-0066, currently titled “Professional Employee Compensation Plan,” is proposed to be retitled “Labor-related Requirements,” due to consolidation with currently approved information collection requirements OMB Control Nos. 9000-0175, 9000-0089, 9000-0014, and 9000-0155.

This clearance covers the information that offerors and contractors must submit to comply with the following labor requirements in the Federal Acquisition Regulation (FAR):

1. 52.222-2, Payment for Overtime Premiums. Paragraph (b) of this clause requires a contractor requesting overtime premiums that exceed the amount specified in paragraph (a) of the clause to do the following: (1) Identify the work unit; e.g., department or section in which the requested overtime will be used, together with present workload, staffing, and other data of the affected unit sufficient to permit the Contracting Officer to evaluate the necessity for the overtime; (2) Demonstrate the effect that denial of the request will have on the contract delivery or performance schedule; (3) Identify the extent to which approval of overtime would affect the performance or payments in connection with other Government contracts, together with identification of each affected contract; and (4) Provide reasons why the required work cannot be performed by using multishift operations or by employing additional personnel.

2. 52.222-6, Construction Wage Rate Requirements, paragraph (c) requires the contractor to establish additional classifications, if any laborer or mechanic is to be employed in a classification that is not listed in the wage determination applicable to the contract. The contractor submits to the contracting officer a Standard Form (SF) 1444, Request for Authorization of Additional Classification and Rate, along with other pertinent data, containing the proposed additional classification and minimum wage rate including any fringe benefits payments. OMB control numbers 1235-0023, 1235-0008, and 1235-0018 account for records to be kept by employers under the Fair Labor Standards Act (FLSA), 29 CFR 516, which is the basic recordkeeping regulation for all the laws administered by the Department of Labor (DOL) Wage and Hour Division. 29 CFR 516, prescribes labor standards for federally financed and assisted construction contracts subject to the Davis-Bacon and Related Acts (DBRA), as well as labor standards for non-construction contracts subject to the Contract Work Hours and Safety Standards Act (CWHSSA).

3. 52.222-11, Subcontracts (Labor Standards), requires contractors to submit SF 1413, Statement and Acknowledgment, for each subcontract for construction within the United States, including the subcontractor's signed and dated acknowledgment that the required labor clauses have been included in the subcontract. DOL regulations at 29 CFR Subpart 5.6 require Federal agencies to ascertain compliance with statutes such as the Wage Rate Requirements (Construction) (formerly known as the Davis-Bacon Act) (40 U.S.C. chapter 31), the Copeland Act (Anti-Kickback) (18 U.S.C. 874 and 40 U.S.C. 3145), and the Contract Work Hours and Safety Standards Act (40 U.S.C. 3701 et seq.)

4. 52.222-18, Certification Regarding Knowledge of Child Labor for Listed End Products, requires offerors to certify they will not supply an end product of a type identified on the DOL List of Products Requiring Contractor Certification as to Forced or Indentured Child Labor, or that the offeror will supply such product, but made a good faith effort to determine whether forced or indentured child labor was used to mine, produce, or manufacture any product furnished under the contract and is unaware of any such use of child labor. For solicitations for commercial items, the Certification Regarding Knowledge of Child Labor for Listed End Products is at paragraph (i) of the provision at 52.212-3, Offeror Representations and Certifications—Commercial Items. This requirement is necessary to comply with Executive Order 13126, Prohibition of Acquisition of Products Produced by Forced or Indentured Child Labor, signed by President Clinton on June 12, 1999.

5. 52.222-33, Notice of Requirement for Project Labor Agreement, and 52.222-34, Project Labor Agreement, require offerors (provision) to submit, and contractors (clause) to maintain, a copy of the project labor agreement (PLA). Agencies have discretion on whether or not to use a PLA in connection with large-scale construction contracts, valued at or above $25M. Agencies may require the PLA be submitted: (1) When offers are due, (2) prior to award (by the apparent successful offeror), or (3) after award.

6. 52.222-46, Evaluation of Compensation for Professional Employees. This provision requires offerors to submit for evaluation a total compensation plan setting forth proposed salaries and fringe benefits for professional employees working on the contract. This is required for negotiated service contracts when the contract amount is expected to exceed $700,000 and the service to be provided will require meaningful numbers of professional employees.

C. Annual Reporting Burden

1. 52.222-2, Payment for Overtime Premiums.

Respondents: 2,098.

Responses per Respondent: 1.

Total annual Responses: 2,098.

Hours per Response: 0.25.

Total Burden Hours: 525.

2. FAR 52.222-6 and SF 1,444 Request for Authorization of Additional Classification and Rate.

Respondents: 3,831.

Responses per Respondent: 2.

Total Annual Responses: 7,662.

Hours per Response: 0.5.

Total Burden Hours: 3,831.

3. FAR 52.222-11, Subcontracts (Labor Standards), and SF 1413, Statement and Acknowledgment.

Respondents: 36,553.

Responses per Respondent: 2.

Total Annual Responses: 73,106.

Hours per Response: 0.05.

Total Burden Hours: 3,655.

4. FAR 52.222-18 Certification Regarding Knowledge of Child Labor for Listed End Products

Respondents: 1,104.

Responses per Respondent: 1.

Total Annual Responses: 1,104.

Hours per Response: 0.18.

Total Burden Hours: 198.

5. FAR 52.222-33 and 52.222-34, Project Labor Agreement

Respondents: 45.

Responses per Respondent: 1.

Total Annual Responses: 45.

Hours per Response: 1.

Total Burden Hours: 45.

6. FAR 52.222-46 Evaluation of Compensation for Professional Employees

Respondents: 3,136.

Responses per Respondent: 3.

Total Annual Responses: 9,408.

Hours per Response: 1.3333.

Total Burden Hours: 12,544.

7. Summary

Respondents: 46,767.

Total annual Responses: 93,423.

Total Burden Hours: 20,798.

Affected Public: Businesses or other for-profit and not-for-profit institutions.

Obtaining Copies: Requesters may obtain a copy of the information collection documents from the General Services Administration, Regulatory Secretariat Division (MVCB), 1800 F Street NW, Washington, DC 20405, telephone 202-501-4755. Please cite OMB Control No. 9000-0066, Labor-related Requirements, in all correspondence.

Janet Fry,
Director, Federal Acquisition Policy Division, Office of Governmentwide Acquisition Policy, Office of Acquisition Policy, Office of Governmentwide Policy.

[FR Doc. 2018-23351 Filed 10-24-18; 8:45 am]

BILLING CODE 6820-EP-P